DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Bay Watershed Education and Training (B-WET) Program National Evaluation System.

OMB Control Number: None.

Form Number(s): NA.

Type of Request: Regular submission (new information collection).

Number of Respondents: 6,919.

Average Hours per Response: Grantee questionnaires, 1 hour; teacher questionnaires, 30 minutes; teacher nonresponse questionnaires, 5 minutes.

Burden Hours: 3,519.

Needs and Uses: This request is for a new information collection.

The NOAA Office of Education's Bay Watershed Education and Training (B-WET) program seeks to contribute to NOAA's mission by supporting education efforts to create an environmentally literate citizenry with the knowledge, attitudes, and skills needed to protect watersheds and related ocean, coastal, and Great Lakes ecosystems. B-WET currently funds projects in seven regions (California, Chesapeake Bay, Great Lakes, Gulf of Mexico, Hawaii, New England, and the Pacific Northwest). B-WET proposes to create an across-region, internal evaluation system to provide ongoing feedback on program implementation and outcomes to ensure maximum quality and efficiency of the B-WET program. The evaluation system will be sustained by B-WET staff with occasional assistance from an outside contractor.

B-WET awardees and the awardees' professional development teacher-participants will be asked to voluntarily complete an online survey form to provide evaluation data. One individual from each awardee organization will be asked to complete a form once per year of the award, and the teacher participants will be asked to complete one form at the end of their professional development program. In addition, B-WET seeks approval of an item bank that awardees can choose to use to construct surveys for youth participants (ages 10-17) in B-WET-funded programs.

Affected Public: Not-for-profit institutions; individuals or households.

Frequency: Annually.

Respondent's Obligation: Required to obtain or retain benefits; voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 18, 2012.
Gwellnar Banks,
Management Analyst, Office of the Chief Information Officer.

[FR Doc. 2012-26150 Filed 10-23-12; 8:45 am]

BILLING CODE 3510-12-P